DEPARTMENT OF LABOR

Employment and Training Administration

[TA-W-55,398]

Thomasville Furniture Industries, Inc., Plant V, Thomasville, NC; Notice of Termination of Investigation

Pursuant to Section 221 of the Trade Act of 1974, an investigation was initiated on August 6, 2004 in response to a petition filed on behalf of workers at Thomasville Furniture Industries, Inc., Plant V, Thomasville, North Carolina.

The petitioning group of workers is covered by active certifications issued on January 13, 2004 which remain in effect (TA-W-53,515G and TA-W-53,515H, as amended). Consequently, further investigation in this case would serve no purpose, and the investigation has been terminated.

Signed in Washington, DC, this 17th day of August 2004.
Richard Church,
Certifying Officer, Division of Trade Adjustment Assistance.

[FR Doc. 04-19675 Filed 8-27-04; 8:45 am]

BILLING CODE 4510-30-P